DEPARTMENT OF HOUSING AND URBAN DEVELOPMENT

[Docket No. FR-4975-N-36]

Notice of Proposed Information Collection: Comment Request; Real Estate Settlement Procedures Act (RESPA) Web Site Complaint Questionnaire

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: January 9, 2006.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov.

FOR FURTHER INFORMATION CONTACT: Ivy Jackson, Director, Office of Interstate Land Sales and Real Estate Settlement Procedures Act, Department of Housing and Urban Development, 451 7th Street SW., Washington, DC 20410, telephone (202) 708-0502 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Real Estate Settlement Procedures Act (RESPA) Web site Complaint Questionnaire.

OMB Control Number, if applicable: 2502-Pending.

Description of the need for the information and proposed use: The Real Estate Settlement Procedures Act insures that consumers are provided with greater and timely information on the nature and costs of the settlement process and are protected from unnecessarily high settlement charges caused by abusive practices. The RESPA Web site Complaint Questionnaire will provide for a common website for consumers and settlement service providers to assist in the enforcement of RESPA. Members of the public may submit complaints to HUD. The Federal Government will use the disclosed information to investigate alleged violations of RESPA regulations by settlement service providers.

Agency form numbers, if applicable: HUD-1974.

Estimation of the total numbers of hours needed to prepare the information collection including number of respondents, frequency of response, and hours of response: The number of respondents is estimated to be 1,246, generating approximately 1,869 responses annually. The frequency of response is on occasion, and the estimated time needed to prepare the response is approximately 0.33 hours, for total annual burden hours of 617.

Status of the proposed information collection: This is a new collection.

Authority: The Paperwork Reduction Act of 1995, 44 U.S.C., Chapter 35, as amended.

Dated: October 31, 2005.
Frank L. Davis,
General Deputy Assistant Secretary for Housing-Deputy Federal Housing Commissioner.

[FR Doc. 05-22154 Filed 11-7-05; 8:45 am]

BILLING CODE 4210-27-P